NATIONAL FOUNDATION ON THE ARTS AND THE HUMANITIES

Institute of Museum and Library Services

Notice of Proposed Information Collection Request: National Museum Survey

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to request a three-year clearance for the National Museum Survey (NMS). The NMS will be a voluntary collection that seeks to measure and understand the scope and scale of the role that the nation's diverse museums play in American society. IMLS will use the data collected through the NMS to provide museum practitioners, the public, and policymakers with essential baseline statistics regarding the museum sector. A copy of the proposed information collection request can be obtained by contacting the individual listed below in the ADDRESSES section of this Notice.

DATES: Written comments on this notice must be submitted to the office listed in the Addresses section below on or before June 28, 2024.

ADDRESSES: Send comments to Julie Balutis, Director of Grants Policy and Management, Institute of Museum and Library Services, 955 L'Enfant Plaza North SW, Suite 4000, Washington, DC 20024-2135. Ms. Balutis can be reached by telephone: 202-653-4645, email: jbalutis@imls.gov. Office hours are from 8:30 a.m. to 5 p.m., E.T., Monday through Friday, except federal holidays. Persons who are deaf or hard of hearing (TTY users) can contact IMLS at 202-207-7858 via 711 for TTY-Based Telecommunications Relay Service.

FOR FURTHER INFORMATION CONTACT: Jake Soffronoff, Survey Methodologist, Office of Research and Evaluation, Institute of Museum and Library Services, 955 L'Enfant Plaza North SW, Suite 4000, Washington, DC 20024-2135. Mr. Soffronoff can be reached by telephone: 202-653-4648, email: jsoffronoff@imls.gov. Persons who are deaf or hard of hearing (TTY users) can contact IMLS at 202-207-7858 via 711 for TTY-Based Telecommunications Relay Service.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The United States is home to tens of thousands of museums. Together, they steward living and non-living collections and, through their programs and services, contribute to the cultural health, economic vitality, and social well-being of the communities they serve. A regular sector-wide data-gathering effort is needed to better understand the museum sector and the services it provides.

IMLS is exercising its authority under 20 U.S. Code § 9108 to conduct a new survey that fills this need: the National Museum Survey (NMS). The NMS will be a voluntary survey of museums that aims to capture the scope and scale of museums' presence and reach within the United States over time. The survey will collect foundational, high-level data directly from museums to inform policymakers, the museum field, and the public about the role that the nation's diverse museums play in American society.

II. Current Actions

Intent to seek approval for a new information collection.

Agency: Institute of Museum and Library Services.

Title: National Museum Survey.

OMB Control Number: 3137-NEW.

Expiration Date: Not applicable.

Agency Number: 3137.

Respondents/Affected Public: IMLS plans to conduct a census of all U.S. museums representing a broad range of museum disciplines, including zoos, aquariums, botanical gardens, and arboretums; nature and science centers; history museums and historic sites; art museums; children's museums; natural history museums; and general and specialized museums. Institutions must meet all the following criteria to be eligible for selection:

• Be a unit of federal, state, local, or tribal government, or a not-for-profit institution.

• Serve the public in a physical location it owns or operates.

• Provide exhibitions and programs.

• Primarily function to house, display, and care for animate or inanimate objects that form the core of its exhibitions, programs, and research.

• Under normal circumstances, be open to the public 90 days or more per year, either through specific hours of operation or by appointment

• Have at least one staff member, or the full-time equivalent, whether paid or unpaid IMLS will request that a senior administrator at each institution be responsible for the completion of the survey at their institution.

Total Estimated Number of Annual Respondents: The survey's expected response rate is 35 percent, leading to approximately 7,500 completed cases.

Frequency of Response: Once per request.

Estimated Average Burden per Response: 1 hour.

Total Estimated Number of Annual Burden Hours: 7,500.

Total Annual Cost Burden: The estimated cost burden for respondents is $431,775 (7,500 hrs × $57.57/hr). $57.57 represents a simple average of hourly mean wage figures for government, academic, and company/enterprise managers (https://www.bls.gov/oes/current/oes113012.htm).

Total Annual Federal Costs: $794,580.49.

Public Comments Invited: Comments submitted in response to this Notice will be summarized and/or included in the request for OMB's clearance of this information collection.

Dated: April 25, 2024.
Suzanne Mbollo,
Grants Management Specialist, Institute of Museum and Library Services.

[FR Doc. 2024-09276 Filed 4-29-24; 8:45 am]

BILLING CODE 7036-01-P